DEPARTMENT OF COMMERCE

National Oceanic and Atmospheric Administration

Proposed Information Collection; Comment Request; Inventory of U.S. Marine Protected Areas: Site Characteristics and Human Uses

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 4, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instruments and instructions should be directed to Dr. Charles M. Wahle, Senior Scientist, NOAA's National Marine Protected Areas Center, via email at charles.wahle@noaa.gov, or by telephone: (831) 647-6460.

SUPPLEMENTARY INFORMATION:

I. Abstract

This request is for a revision and extension of an approved data collection effort to provide ocean managers, users and other interested parties with accurate, objective and useful information about the location, purpose, management and human uses of marine protected areas in the coastal and marine waters of the United States. To this end, NOAA's National Marine Protected Areas Center (MPA Center), part of the Office of National Marine Sanctuaries (ONMS), proposes to continue and augment an ongoing effort to inventory all U.S. MPAs.

The MPA Center was established under Executive Order 13158, which directs NOAA and the Department of the Interior to work collaboratively with state, federal, territorial and tribal partners to enhance ocean conservation and management throughout the nation's system of MPAs. The Marine Protected Areas Inventory— a publicly available, online, spatial database that provides detailed and unique information on MPAs nationwide—is fundamental to this goal. Required by Executive Order 13158, the Inventory provides access to data and summary products on over 1,600 MPA sites across different management programs and all levels of government. The MPA Inventory is accessible via the MPA Center's Web site, marineprotectedareas.noaa.gov.

This data collection effort would continue providing U.S. MPA managers with a voluntary, online means to share and update important information about: (i) The site's establishment, purpose(s), management approaches, and natural and cultural resources; and, (ii) the types, trends and potential resource management implications of expanding recreational uses within U.S. MPAs.

The MPA Inventory data collection continues the periodic and voluntary solicitation of site-specific descriptive data from all MPAs in the U.S. Typically, an individual MPA site would complete an online site data form once, and then update it if necessary to reflect changes in boundaries, regulations, management approaches, etc. In order to keep this vital data resource current and accurate with the latest status and information on MPAs nationwide, the online site data form, posted at marineprotectedareas.noaa.gov, can be used to: (i) Describe a new or modified MPA; (ii) provide feedback, corrections or additions to existing MPA Inventory data; or, (iii) evaluate whether a site proposed for inclusion in the National System of MPAs meets the eligibility criteria (typically 5-10 sites per year). The MPA Inventory is frequently used by ocean managers, users, scientists and others to better understand place-based management of U.S. waters.

In addition to continuing to manage and share descriptive information on U.S. MPAs, the MPA Center proposes to contact State and Federal MPA managers to solicit and facilitate their participation in a voluntary survey about conditions and trends in recreational uses of their sites. Data addressing the nature, trends, drivers and implications of recreational uses will be collected from U.S. MPA managers electronically over a period of 6 weeks using an online survey instrument. Individual managers' responses will remain confidential and the results aggregated to illustrate meaningful general trends rather data specific to a single MPA. Important patterns and lessons learned from this data collection will be shared directly with MPA managers around the country to assist in their management of some of the nation's most treasured ocean and coastal areas.

II. Method of Collection

Submissions will be made on line.

III. Data

OMB Control Number: 0648-0449.

Form Number(s): None.

Type of Review: Revision and extension of an approved information collection.

Affected Public: Approximately 300 State, territorial and federal MPA managers or staff.

Estimated Number of Respondents: 150.

Estimated Time per Response: 30 minutes each for the uploading of information and for the survey.

Estimated Total Annual Burden Hours: 75.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 27, 2015.
Glenna Mickelson,
Management Analyst, Office of the Chief Information Officer.

[FR Doc. 2015-01853 Filed 1-30-15; 8:45 am]

BILLING CODE 3510-NK-P